DEPARTMENT OF THE INTERIOR

Bureau of Land Management

[CO-100-1610-DP]

Notice of Correction to Notice of Availability of the Additional Air Quality Impact Assessment To Support the Little Snake Draft Resource Management Plan and Environmental Impact Statement (RMP/EIS), Moffat and Routt Counties, CO

AGENCY: Bureau of Land Management, Interior.

ACTION: Notice of correction.

SUMMARY: The Bureau of Land Management (BLM) published a Notice of Availability in the Federal Register [73 FR 60321] on October 10, 2008, that had incorrect information in the DATES section. The October 10, 2008, Notice of Availability incorrectly indicated that the BLM would receive written comments on the Additional Air Quality Impact Assessment within 45 days following the date the Environmental Protection Agency (EPA) published their Notice of Availability in the Federal Register. The EPA was not required, nor did it intend to publish such a notice of availability. Therefore, the BLM is publishing this notice of correction to clarify that the BLM will receive written comments on the Additional Air Quality Impact Assessment within 45 days following the date that this notice of correction publishes in the Federal Register.

DATES: To assure that they will be considered, the BLM must receive written comments on the Air Quality Impact Assessment by January 5, 2009. Additional announcements are being made through local media news releases and information will be posted on the Little Snake Resource Management Plan Web site: http://www.co.blm.gov/lsra/rmp.

FOR FURTHER INFORMATION CONTACT: Jeremy Casterson, Planning and Environmental Coordinator, BLM—Little Snake Field Office, 455 Emerson St., Craig, CO 81625. Phone: (970) 826-5071. E-mail: Jeremy_Casterson@blm.gov.

Lynn E. Rust,
Acting State Director, Colorado.

[FR Doc. E8-27445 Filed 11-18-08; 8:45 am]

BILLING CODE 4310-$$-P